DEPARTMENT OF LABOR

Employment and Training Administration

Workforce Investment Act: Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council as constituted under WIA.

TIME AND DATE: The meeting will begin at 9 a.m. e.s.t. (eastern standard time) on Tuesday, November 30, 2004, and continue until 5 p.m. e.s.t. that day. The meeting will reconvene at 9 a.m. e.s.t. on Wednesday, December 1, 2004, and continue until approximately 5 p.m. e.s.t. on that day. The period from 3 p.m. to 5 p.m. e.s.t. on November 30, 2004 will be reserved for participation and presentation by members of the public. The meeting will adjourn at approximately 5 p.m. on Wednesday, December 1, 2004.

PLACE: All sessions will be held in Room C-5515 (1A), FPB, U.S. Department of Labor, 200 Constitution Avenue, NW., Washington, DC 20210.

STATUS: The meeting will be open to the public. Persons who need special accommodations should contact Ms. Brown on (202) 693-3737 by November 5, 2004.

MATTERS TO BE CONSIDERED: The formal agenda will include, but not be limited to, the following topics: (1) A further discussion of the common measures; (2) the EMILE reporting system; (3) reporting work group recommendations; (4) future training needs of section 166 grantees; and (5) youth forums.

FOR FURTHER INFORMATION CONTACT: Ms. Athena Brown, Chief, Division of Indian and Native American Programs, Office of National Programs, Employment and Training Administration, U.S. Department of Labor, Room S-4203, 200 Constitution Avenue, NW., Washington, DC 20210.

TELEPHONE: (202) 693-3737 (voice) (this is not a toll-free number) or 1-800-877-8339 (TTY) or speech-to-speech at 1-877-877-8982 (these are toll-free numbers).

Signed at Washington, DC, this 5th day of November, 2004.
Thomas M. Dowd,
Deputy Assistant Secretary, Employment and Training Administration.

[FR Doc. 04-25174 Filed 11-10-04; 8:45 am]

BILLING CODE 4510-30-P